DEPARTMENT OF AGRICULTURE

Forest Service

Beaver Creek Fuels Reduction and Associated Restoration Activities Project, Wallowa-Whitman National Forest, Union County, OR

AGENCY: Forest Service, USDA.

ACTION: Cancellation notice.

SUMMARY: On December 30, 1996, a Notice of Intent (NOI) to prepare an environmental (EIS) for the Beaver Creek Salvage Timber Sale and Other Restoration Projects, on the La Grande Ranger District of the Wallowa-Whitman National Forest, was published in the Federal Register (61 FR 68704). The name of this project was later changed on September 5, 1997, to “Beaver Creek Fuels Reduction and Associated Restoration Activities Project” in the Federal Register (62 FR 46942). A Notice of Availability for the draft EIS was published in the Federal Register on November 6, 1998 (63 FR 59988). Forest Service has decided to cancel the preparation of a final EIS analyzing fuel reduction proposals and related activities within the Beaver Creek unroaded area and La Grande Municipal Watershed. The NOI is hereby rescinded.

FOR FURTHER INFORMATION CONTACT: Questions maybe addressed to Cindy Whitlock, Resource Analyst, La Grande Ranger District, 3502 Highway 30, La Grande, OR 97850, telephone: 541-962-8501.

Dated: May 8, 2003.
Karyn L. Wood,
Forest Supervisor.

[FR Doc. 03-12702 Filed 5-20-03; 8:45 am]

BILLING CODE 3410-11-M